FEDERAL EMERGENCY MANAGEMENT AGENCY

Agency Information Collection Activities: Submission for OMB Review; Comment Request

ACTION: Notice and request for comments.

SUMMARY: The Federal Emergency Management Agency has submitted the following proposed information collection to the Office of Management and Budget for review and clearance in accordance with the requirements of the Paperwork Reduction Act of 1995 (44 U.S.C. 3507).

Title: Implementation of Coastal Barrier Resources Act.

Type of Information Collection: Revision of a currently approved collection.

OMB Number: 3067-0120.

Abstract: Section II of the Coastal Barrier Resource Act (P.L. 348) prohibits the sale of National Flood Insurance Program policies for new construction and substantial improvement of structures on undeveloped coastal barriers on or after October 1, 1983. The information collection contained in FEMA regulation 44 CFR, Section 71.4 is used by FEMA to determine that a structure is neither new construction nor a substantial improvement, and therefore is eligible for flood insurance.

Affected Public: Individuals or Households; Business or Other For-Profit; Not-for-Profit Institutions; Farms; Federal Government; State, Local or Tribal Government.

Number of Respondents: 60.

Estimated Time per Respondent: 1.5 hours.

Estimated Total Annual Burden Hours: 90 hours.

Frequency of Response: One-time during life of policy.

COMMENTS: Interested persons are invited to submit written comments on the proposed information collection to the Desk Officer for the Federal Emergency Management Agency, Office of Information and Regulatory Affairs, Office of Management and Budget, Washington, DC 20503 within 30 days of the date of this notice.

FOR FURTHER INFORMATION CONTACT: Requests for additional information or copies of the information collection should be made to Muriel B. Anderson, Chief, Records Management Section, Program Services and Systems Branch, Facilities and Services Management Division, Administration and Resource Planning Directorate, Federal Emergency Management Agency, 500 C Street, SW, Room 316, Washington, DC 20472, telephone number (202) 646-2625 or facsimile number (202) 646-3347, or email muriel.anderson@fema.gov.

Dated: September 28, 2001.
Reginald Trujillo,
Branch Chief, Program Services and Systems Branch, Facilities and Services Management Division, Administration and Resource Planning Directorate.

[FR Doc. 01-25245 Filed 10-5-01; 8:45 am]

BILLING CODE 6718-01-P